FEDERAL COMMUNICATIONS COMMISSION

Deletion of Agenda Item From December 12th Open Meeting; Sunshine Act

December 11, 2001.

The following item has been deleted from the list of agenda items scheduled for consideration at the December 12, 2001, Open Meeting and previously listed in the Commission's Notice of December 5, 2001.

Item No. and Bureau | Subject
6 Office of Engineering and Technology | Title: Revision of Part 15 of the Commission's Rules Regarding Ultra-Wideband Transmission System (ET Docket No. 98-153).
| Summary: The Commission will consider a First Report and Order to provide for new ultra-wideband devices.

Federal Communications Commission.
Magalie Roman Salas,
Secretary.

[FR Doc. 01-30988 Filed 12-12-01; 12 pm]

BILLING CODE 6712-01-M